FEDERAL COMMUNICATIONS COMMISSION

47 CFR Part 90

[WT Docket No. 02-55; FRS 16798]

Improving Public Safety Communications in the 800 MHZ Band

AGENCY: Federal Communications Commission.

ACTION: Final rule.

SUMMARY: In this document, the Federal Communications Commission (Commission) streamlines our rules and procedures to accelerate the successful conclusion of the Commission's 800 MHz band reconfiguration program, or rebanding. The 800 MHz rebanding initiative is a 14-year, $3.6 billion program, involving Sprint Corporation (Sprint) and 800 MHz licensees. At the conclusion of this initiative, public safety, critical infrastructure and other 800 MHz licensees will operate in a reconfigured 800 MHz band free of the interference that plagued first responders' mission-critical communications before the Commission instituted rebanding in the 800 MHz Report and Order.

DATES: Effective July 27, 2020.

FOR FURTHER INFORMATION CONTACT: Roberto Mussenden, Policy and Licensing Division, Public Safety and Homeland Security Bureau, (202) 418-1428.

SUPPLEMENTARY INFORMATION: This is a summary of the Commission's Report and Order in WT Docket No. 02-55, FCC 20-61, released on May 12, 2020. The document is available for download at http://fjallfoss.fcc.gov/edocs_public/. The complete text of this document is also available for inspection and copying during normal business hours in the FCC Reference Information Center, Portals II, 445 12th Street SW, Room CY-A257, Washington, DC 20554. To request materials in accessible formats for people with disabilities (braille, large print, electronic files, audio format), send an email to FCC504@fcc.gov or call the Consumer & Governmental Affairs Bureau at 202-418-0530 (voice), 202-418-0432 (TTY).

1. In the Order, the Commission accelerates the successful conclusion of the Commission's 800 MHz rebanding program by eliminating certain audit and financial reconciliation requirements that have been part of the program since its inception but are no longer necessary as rebanding nears completion.

Procedural Matters

A. Final Regulatory Flexibility Analysis

2. The Final Regulatory Flexibility Analysis required by section 604 of the Regulatory Flexibility Act, 5 U.S.C. 604, is included in Appendix B of the Report and Order.

B. Paperwork Reduction Act of 1995 Analysis

3. The Order document does not contains new or modified information collection requirements subject to the Paperwork Reduction Act of 1995 (PRA), Public Law 104-13.

C. Congressional Review Act

4. The Commission has determined, and the Administrator of the Office of Information and Regulatory Affairs, Office of Management and Budget, concurs that this rule is non-major under the Congressional Review Act, 5 U.S.C. 804(2). The Commission will send a copy of this Report & Order to Congress and the Government Accountability Office pursuant to 5 U.S.C. 801(a)(1)(A).

Ordering Clauses

5. Accordingly, It Is Ordered that, pursuant to sections 4(i), 4(j), 301, 303, and 403 of the Communications Act of 1934, as amended, 47 U.S.C. 154(i), 154(j), 301, 303, and 403, the Order Is Hereby Adopted.

6. It Is Further Ordered that the amendments of the Commission's rules as set forth in Appendix A of the Report and Order Are Adopted, effective July 27, 2020.

7. It Is Further Ordered that the Commission Shall Send a copy of the Report and Order in a report to be sent to Congress and the General Accounting Office pursuant to the Congressional Review Act, 5 U.S.C. 801(a)(1)(A).

List of Subjects in 47 CFR Part 90

Administrative practice and procedure; Radio; Common Carriers; Reporting and recordkeeping requirements.

Federal Communications Commission.
Marlene Dortch,
Secretary.

For the reasons discussed in the preamble, the Federal Communications Commission amends 47 CFR part 90 as follows:

1. The authority citation for part 90 continues to read as follows:

Authority: 47 U.S.C. 154(i), 161, 303(g), 303(r), 332(c)(7), 1401-1473.

§ 90.676 [Amended]

2. Amend § 90.676 by removing and reserving paragraph (b)(4).

[FR Doc. 2020-12131 Filed 6-24-20; 8:45 am]

BILLING CODE 6712-01-P